DEPARTMENT OF ENERGY

Federal Energy Regulatory Commission

Notice of Dam Remediation Work and Soliciting Comments, Motions To Intervene, and Protests

May 19, 2000.

Take notice that the following hydroelectric application has been filed with the Commission and is available for public inspection:

a. Application Type: Request to deviate from the target minimum flow required by article 39 below Blue Lake and Rucker Lake during necessary dam remediation.

b. Project No. 2310-106.

c. Date Filed: May 9, 2000.

d. Applicant: Pacific Gas and Electric Company.

e. Name of Project: Drum-Spaulding Project.

f. Location: The project is located on the South Yuba and Bear Rivers in Nevada County and Placer County, California.

g. Filed Pursuant to: Section 12.39 of the Commission's Regulations.

h. Applicant Contact: Mr. Richard Doble, Pacific Gas and Electric Company (PG&E), Mail Code N11C, P.O. Box 770000, San Francisco, CA 94177.

i. FERC Contact: Any questions on this notice should be addressed to Diana Shannon at 202-208-7774, or e-mail address diana.shannon@ferc.fed.us.

j. Deadline for filing comments and or motions: June 14, 2000.

All documents (original and eight copies) should be filed with Mr. David P. Boergers, Secretary, Federal Energy Regulatory Commission, 888 First Street, NE, Washington, DC 20426.

Please reference the following number, P-2310-106, on any comments or motions filed.

k. Description of Proposal: Remediation of the existing dam at Blue Lake is necessary to improve the stability of the downstream slope. The work is required under Part 12 of the Commission's regulations. A drawdown of Blue Lake and a deviation from the target minimum flow, required by article 39, is necessary at Blue and Rucker Lakes (downstream of Blue Lake). Flow will be maintained at or above the allowable minimum stipulated in article 39. The work will be performed from July-October 2000. Refill of the lake will begin after completion of the work and may take up to three years due to the lake's small drainage area. The licensee has consulted with the FWS, CDFG, FS, and the Regional Water Quality Control Board regarding the necessary remediation.

l. Locations of the Application: A copy of the application is available for inspection and reproduction at the Commission's Public Reference Room, 888 First Street, NE, Room 2A, Washington, DC 20426, or call 202-208-1371. The application may be viewed on-line at http:\\www.ferc.fed.us/online/rims.htm (call 202-208-2222 for assistance). A copy is also available for inspection and reproduction at the address in item h above.

m. Individuals desiring to be included on the Commission's mailing list should so indicate by writing to the Secretary of the Commission.

Comments, Protests, or Motions to Intervene—Anyone submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filing must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-13109 Filed 5-24-00; 8:45 am]

BILLING CODE 6717-01-M